DEPARTMENT OF TRANSPORTATION

Federal Aviation Administration

[Summary Notice No. PE-2001-55]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect to FAA's regulatory activities. Neither publication of this notice nor the inclusion of omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on July 20, 2001.
Donald P. Bryne,
Assistant Chief Counsel for Regulations.

Dispositions of Petitions

Docket No.: 30160.

Petitioner: Raytheon Aircraft Parts Inventory & Distributions Co.

Section of 14 CFR Affected: 14 CFR 21.323(b).

Description of Relief Sought/Disposition: To permit RAPID to issue export airworthiness approvals for Class III products without meeting the eligibility requirements of § 21.323(b). Denial, 06/29/2001, Exemption No. 7558.

Docket No.: 30034.

Petitioner: Coalition of Airline Pilots Association.

Section of 14 CFR Affected: 14 CFR 61.23(c).

Description of Relief Sought/Disposition: To extend the duration of first-class medical certificates from 6 months to 1 year for all airline transport pilots who are currently, or who will in the future become, members of CAPA. Denial, 07/06/2001, Exemption No. 7563.

Docket No.: FAA-2001-8878 (previously Docket No. 29207).

Petitioner: American Airlines, Inc.

Section of 14 CFR Affected: 14 CFR 121.434(c)(1)(ii).

Description of Relief Sought/Disposition: To permit American to substitute a qualified and authorized check airman in place of an FAA inspector to observe a qualifying pilot-in-command (PIC) while that PIC is performing prescribed duties during at least one flight leg that includes a takeoff and a landing when completing initial or upgrade training specified in § 121.424. Grant, 07/06/2001, Exemption No. 6916A.

Docket: FAA-2001-9641.

Petitioner: Rhoades Aviation, Inc.

Section of 14 CFR Affected: 14 CFR 135.152(a).

Description of Relief Sought/Disposition: To permit Rhoades to operate one Douglas DC-3TP airplane (Registration No. N376AS) without that airplane being equipped with an approved digital flight data recorder that is capable of recording propeller speed or TE flaps. Grant, 07/06/2001, Exemption No. 7562.

Docket: FAA-2001-8942.

Petitioner: Aerotech of Louisville.

Section of 14 CFR Affected: 14 CFR 145.45(f).

Description of Relief Sought/Disposition: To permit Aerotech to place and maintain its inspection procedures manual (IPM) in fixed locations within its repair station facility rather than giving a copy of its IPM to each of its supervisory and inspection personnel. Grant, 05/10/2001, Exemption No. 7535.

Docket No.: FAA-2001-9097 (previously Docket No. 27205).

Petitioner: Federal Express Corporation.

Section of 14 CFR Affected: 14 CFR 135.143(c)(2).

Description of Relief Sought/Disposition: To permit FedEx to operate certain aircraft under part 135 without a TSO-C112 (Mode S) transponder installed in the aircraft. Grant, 07/09/2001, Exemption No. 5711F.

Docket No.: FAA-2001-9232 (previously Docket No. 29618).

Petitioner: Blatti Aviation, Inc.

Section of 14 CFR Affected: 14 CFR 135.143(c)(2).

Description of Relief Sought/Disposition: To permit Blatti to operate certain aircraft under part 135 without a TSO-C112 (Mode S) transponder installed in the aircraft. Grant, 07/09/2001, Exemption No. 6957A.

Docket No.: FAA-2001-9788.

Petitioner: Industrial Helicopters, Inc.

Section of 14 CFR Affected: 14 CFR 135.143(c)(2).

Description of Relief Sought/Disposition: To permit IHI to operate certain aircraft under part 135 without a TSO-C112 (Mode S) transponder installed in the aircraft. Grant, 07/09/2001, Exemption No. 7566.

Docket No.: FAA-2001-9790.

Petitioner: Cornerstone Air Charter, Inc.

Section of 14 CFR Affected: 14 CFR 135.143(c)(2).

Description of Relief Sought/Disposition: To permit CACI to operate certain aircraft under part 135 without a TSO-C112 (Mode S) transponder installed in the aircraft. Grant, 07/09/2001, Exemption No. 7564.

[FR Doc. 01-18546 Filed 7-24-01; 8:45 am]

BILLING CODE 4910-13-M